DEPARTMENT OF JUSTICE

Federal Bureau of Investigation

Meeting of the CJIS Advisory Policy Board

AGENCY: Federal Bureau of Investigation (FBI).

ACTION: Meeting notice.

SUMMARY: The purpose of this notice is to announce the meeting of the Criminal Justice Information Services (CJIS) Advisory Policy Board (APB). The CJIS APB is responsible for reviewing policy issues, uniform crime reports, and appropriate technical and operational issues related to the programs administered by the FBI's CJIS Division and thereafter, make appropriate recommendations to the FBI Director. The topics to be discussed will include the Justice Consolidated Network, Applicability of Compact Council “rules, procedures, or standards” to Nonparty States and to Law Enforcement Agencies, CJIS System of Systems Enhancements Status, request for Dissemination of NCIC Vehicle File Information by the National Insurance Crime Bureau to For-Profit, Non-Criminal Justice Agencies, Access to National Vehicle Registration Data to Combat Vehicle Cloning, Discussion of “Criminal Justice” and the Possible Expansion of the Term as Defined in the Code of Federal Regulations (CFR) and the United States Code (U.S.C.), and Emergency Response to National Disasters. Discussion will also include the status on the National Crime Prevention and Privacy Compact, the DOJ Global and Information Sharing Project, and other issues related to the Integrated Automated Fingerprint Identification System, NCIC, Law Enforcement Online, National Instant Criminal Background Check System and Uniform Crime Reporting Programs.

The meeting will be open to the public on a first-come first-seated basis. Any member of the public wishing to file a written statement concerning the FBI's CJIS Division programs or wishing to address this session should notify the Designated Federal Employee, Mr. Roy G. Weise, Programs Development Section, (304) 625-2730, at least 24 hours prior to the start of the session.

The notification should contain the requestor's name, corporate designation, and consumer affiliation or government designation along with a short statement describing the topic to be addressed and the time needed for the presentation. A requestor will ordinarily be allowed no more than 15 minutes to present a topic.

DATES: The Advisory Policy Board will meet in open session from 9 a.m. until 5 p.m. on December 12-13, 2001.

ADDRESSES: The meeting will take place at the W New Orleans Hotel, 333 Poydras Street, New Orleans, Louisiana, telephone (504) 525-9444.

FOR FURTHER INFORMATION CONTACT: Inquiries may be addressed to Mr. Randall R. Hissam, Management Analyst, Advisory Groups Management Unit, Programs Development Section, FBI CJIS Division, Module C3, 1000 Custer Hollow Road, Clarksburg, West Virginia 26306-0149, telephone (304) 625-2705, facsimile (304) 625-5090.

Dated: October 12, 2001.
Roy G. Weise,
Designated Federal Employee, Criminal Justice Information Services Division, Federal Bureau of Investigation.

[FR Doc. 01-26784 Filed 10-23-01; 8:45 am]

BILLING CODE 4410-02-M